DEPARTMENT OF HEALTH AND HUMAN SERVICES

Agency for Toxic Substances and Disease Registry

[ATSDR-164]

Availability of Final Toxicological Profile for Polychlorinated Biphenyls (PCBs)

AGENCY: Agency for Toxic Substances and Disease Registry (ATSDR), Department of Health and Human Services (HHS).

ACTION: Notice of availability.

SUMMARY: This notice announces the availability of the final updated toxicological profile for polychlorinated biphenyls (PCBs) which completes the twelfth set prepared by ATSDR. The announcement of seven toxicological profiles for the twelfth set was published in the Federal Register on November 16, 2000 (65 FR 69309).

FOR FURTHER INFORMATION CONTACT: Ms. Franchetta Stephens, Division of Toxicology, Agency for Toxic Substances and Disease Registry, Mailstop E-29, 1600 Clifton Road, NE, Atlanta, Georgia 30333, telephone 1-(888) 422-8737 or (404) 639-6345.

SUPPLEMENTARY INFORMATION: The Superfund Amendments and Reauthorization Act (SARA) (Pub. L. 99-499) amended the Comprehensive Environmental Response, Compensation, and Liability Act (CERCLA or Superfund) (42 U.S.C. 9601 et seq.) by establishing certain requirements for ATSDR and the Environmental Protection Agency (EPA) regarding hazardous substances which are most commonly found at facilities on the National Priorities List (NPL). Among these statutory requirements is a mandate for the Administrator of ATSDR to prepare toxicological profiles for each substance included on the priority lists of hazardous substances. These lists identified 275 hazardous substances that ATSDR and EPA determined pose the most significant potential threat to human health. The availability of the revised list of the 275 most hazardous substances was announced in the Federal Register on October 21, 1999 (64 FR 56792). For prior versions of the list of substances see Federal Register notices dated November 17, 1997 (62 FR 61332); April 29, 1996 (61 FR 18744); April 17, 1987 (52 FR 12866); October 20, 1988 (53 FR 41280); October 26, 1989 (54 FR 43619); October 17, 1990 (55 FR 42067); October 17, 1991 (56 FR 52166); October 28, 1992 (57 FR 48801); and February 28, 1994 (59 FR 9486).

The Federal Register notice announcing that the draft toxicological profile for PCBs was available for public review and comment was published February 10, 1999 (64 FR 6660). After the close of the 90-day public comment period, chemical-specific comments were addressed, and where appropriate, changes were incorporated into the profile. The public comments and other data submitted in response to the Federal Register notice bear the docket control number ATSDR-143. This material is available for public inspection at the Division of Toxicology, Agency for Toxic Substances and Disease Registry, Building 4, Suite 2400, Executive Park Drive, Atlanta, Georgia, (not a mailing address) between 8:00 a.m. and 4:30 p.m., Monday through Friday, except legal holidays.

Availability

This notice announces the availability of the final updated toxicological profile for PCBs which completes the twelfth set prepared by ATSDR. The following toxicological profile is now available through the U.S. Department of Commerce, National Technical Information Service (NTIS), 5285 Port Royal Road, Springfield, Virginia 22161, telephone 1-800-553-6847. There is a charge for these profiles as determined by NTIS.

Toxicological profile | NTIS order No. | Cas No.
POLYCHLORINATED BIPHENYLS | PB2000-108027 | 001336-36-3
AROCLOR 1016 |  | 012674-11-2
AROCLOR 1221 |  | 011104-28-2
AROCLOR 1232 |  | 011141-16-5
AROCLOR 1242 |  | 053469-21-9
AROCLOR 1248 |  | 012672-29-6
AROCLOR 1254 |  | 011097-69-1
AROCLOR 1260 |  | 011096-82-5
AROCLOR 1262 |  | 037324-23-5
AROCLOR 1268 |  | 011100-14-4

Dated: January 29, 2001.
Georgi Jones,
Director, Office of Policy and External Affairs, Agency for Toxic Substances and Disease Registry.

[FR Doc. 01-2988 Filed 2-12-01; 8:45 am]

BILLING CODE 4163-70-P